CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed renewal and revision of its AmeriCorps VISTA Concept Paper and Application and Budget Instructions (OMB Control Number 3054-0038), which will expire on May 11, 2011 and the Project Progress Report (PPR) and VISTA Progress Report Supplement (VPRS) (OMB Control Number 3045-0043), which will expire on September 30, 2011.

This renewal with minor changes reflects the Corporation's intent to modify selected sections of the collection instrument to reduce burden on respondents and to reflect changes in data considered core reporting information to meet a variety of needs, including adding new data elements as needed to ensure the information collection captures appropriate data for the Corporation's required performance measurement and other reporting.

DATES: Written comments must be submitted to the office listed in the ADDRESSES section by April 19, 2011.

ADDRESSES: You may submit comments, identified by the title of the information collection activity, by any of the following methods:

(1) By mail sent to: Corporation for National and Community Service, Attn. Kelly Daly, Program Development Specialist, 1201 New York Avenue, NW., Washington, DC 20525.

(2) By hand delivery or by courier to the Corporation's mailroom at Room 6010 at the mail address given in paragraph (1) above, between 9 a.m. and 4 p.m. Monday through Friday except Federal holidays.

(3) By fax to: (202) 606-3475, Attention Kelly Daly, Program Development Specialist.

(4) Electronically through the Corporation's e-mail address system: vista@americorps.gov or http://www.regulations.gov.

(5) Individuals who use a telecommunications device for the deaf (TTY-TDD) may call (202) 606-3472 between 8:30 a.m. and 5 p.m. Eastern Time, Monday through Friday.

FOR FURTHER INFORMATION CONTACT: Kelly Daly (202-606-6849) or by e-mail at vista@americorps.gov.

SUPPLEMENTARY INFORMATION:

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology (e.g., permitting electronic submissions of responses).

Background

The AmeriCorps*VISTA Concept Paper and Application Instructions are used by the Corporation in the selection of VISTA sponsors and in the approval of both new and renewing VISTA projects. The information collection consists of a brief Concept Paper, and, if the Concept Paper is approved, a full application including budget.

The Progress Report (PPR) and VISTA Progress Report Supplement (VPRS) is designed to assure that AmeriCorps*VISTA sponsors address and fulfill legislated program purposes, meet agency program management and grant requirements, and assess progress toward project plan goals agreed upon in the signing of the Memorandum of Agreement.

Current Action

The Corporation seeks to renew the Concept Paper and Application Instructions to: (a) Reduce respondent burden; (b) enhance data elements collected via this information collection tool; (c) comply with provisions in the Serve America Act regarding Focus Areas.

The Corporation seeks to renew the current PPR and VPRS used by AmeriCorps*VISTA sponsors and grantees to report progress toward accomplishing work plan goals and objectives, reporting actual outcomes related to self-nominated performance measures meeting challenges encountered, describing significant activities, and requesting technical assistance.

The Corporation is proposing to merge two current information collection requests into one information collection request consisting of four instruments.

The information collection will otherwise be used in the same manner as the currently approved information collection requests. The Corporation also seeks to continue using the current information collections until the renewal is approved by OMB. The current information collection requests are due to expire on May 11, 2011 and September 30, 2011.

Type of Review: Renewal.

Agency: Corporation for National and Community Service.

Title: AmeriCorps VISTA Concept Paper, Application Instructions, Progress Report and Progress Report Supplement.

Current ICR: VISTA Concept Paper and Application Instructions.

OMB Number: 3045-0038.

Agency Number: None.

Affected Public: Potential sponsors, current sponsoring organizations, current subsite organizations, and VISTAs.

Instrument: Concept Paper.

Total Respondents: 3,200 Frequency: One time.

Average Time per Response: 2 hours

Estimated Total Burden Hours: 6,400 hours.

Total Burden Cost (capital/startup): None.

Total Burden Cost (operating/maintenance): None.

Instrument: Application Instructions.

Total Respondents: 1,000 for the full application.

Frequency: Annually

Average Time per Response: 15 hours for application.

Estimated Total Burden Hours: 15,000 hours.

Total Burden Cost (capital/startup): None.

Total Burden Cost (operating/maintenance): None.

Current ICR: VISTA Project Progress Report and Project Report Supplement.

OMB Number: 3045-0043.

Agency Number: None.

Instrument: VISTA Project Progress Report.

Total Respondents: 1100.

Frequency: Quarterly.

Average Time Per Response: 7 hours.

Estimated Total Burden Hours: 30,800 hours.

Total Burden Cost (capital/startup): None.

Total Burden Cost (operating/maintenance): None.

Instrument: VISTA Progress Report Supplement.

Total Respondents: 1100.

Frequency: Annual.

Average Time Per Response: 9 hours.

Estimated Total Burden Hours: 9900 hours.

Total Burden Cost (capital/startup): None.

Total Burden Cost (operating/maintenance): None.

Comments submitted in response to this notice will be summarized and/or included in the request for Office of Management and Budget approval of the information collection request; they will also become a matter of public record.

Dated: February 14, 2011.
Paul Davis,
Acting Director, AmeriCorps*VISTA.

[FR Doc. 2011-3729 Filed 2-17-11; 8:45 am]

BILLING CODE 6050-$$-P